ENVIRONMENTAL PROTECTION AGENCY

40 CFR Part 60

[EPA-HQ-OAR-2020-0556; FRL-8335-06-OAR]

RIN 2060-AV35

Testing Provisions for Air Emission Sources; Correction

AGENCY: Environmental Protection Agency (EPA).

ACTION: Final rule; correcting amendment.

SUMMARY: The Environmental Protection Agency (EPA) is making a correcting amendment due to an error in a final rule that was published in the Federal Register on March 29, 2023, and became effective on May 30, 2023. The final rule corrected and updated regulations for source testing of emissions.

DATES: Effective June 28, 2023.

ADDRESSES: The EPA has established a docket for this action under Docket ID No. EPA-HQ-OAR-2020-0556. All documents in the docket are listed on the www.regulations.gov website. Although listed in the index, some information is not publicly available, e.g., confidential business information or other information whose disclosure is restricted by statute. Certain other material, such as copyrighted material, is not placed on the internet and will be publicly available only in hard copy. Publicly available docket materials are available electronically through www.regulations.gov.

FOR FURTHER INFORMATION CONTACT: Mrs. Lula H. Melton, Office of Air Quality Planning and Standards, Air Quality Assessment Division (E143-02), Environmental Protection Agency, Research Triangle Park, NC 27711; telephone number: (919) 541-2910; fax number: (919) 541-0516; email address: melton.lula@epa.gov.

SUPPLEMENTARY INFORMATION: This correction does not change any final action taken by the EPA on March 29, 2023 (88 FR 18396); this action merely corrects language in section 1.1 of Performance Specification 16 of appendix B to part 60, which was inadvertently changed at 88 FR 18411 (March 29, 2023).

List of Subjects in 40 CFR Part 60

Environmental protection, Air pollution control, Incorporation by reference, Performance specifications, Test methods and procedures.

For the reasons stated in the preamble, EPA amends 40 CFR part 60 by making the following correcting amendment:

PART 60—STANDARDS OF PERFORMANCE FOR NEW STATIONARY SOURCES

1. The authority citation for part 60 continues to read as follows:

Authority: 42 U.S.C. 7401 et seq.

2. Amend appendix B to part 60 by revising the last sentence in section 1.1 of performance specification 16 to read as follows:

Appendix B to Part 60—Performance Specifications

* * * * *

Performance Specification 16—Specifications and Test Procedures for Predictive Emission Monitoring Systems in Stationary Sources

1.0 Scope and Application

1.1 * * * These specifications apply to PEMS that are installed under 40 CFR parts 60, 61, and 63 after April 24, 2009.

* * * * *

Richard A. Wayland,
Director, Air Quality Assessment Division, Office of Air Quality Planning and Standards.

[FR Doc. 2023-13595 Filed 6-27-23; 8:45 am]

BILLING CODE 6560-50-P